DEPARTMENT OF EDUCATION

Notice of Proposed Information Collection Requests

AGENCY: Department of Education.

ACTION: Comment Request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Privacy, Information and Records Management Services, Office of Management, invites comments on the proposed information collection requests as required by the Paperwork Reduction Act of 1995.

DATES: Interested persons are invited to submit comments on or before July 26, 2011.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. Chapter 35) requires that Federal agencies provide interested parties an early opportunity to comment on information collection requests. The Director, Information Collection Clearance Division, Information Management and Privacy Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: May 23, 2011.
Darrin A. King,
Director, Information Collection Clearance Division, Privacy, Information and Records Management Services, Office of Management.

Office of Planning, Evaluation and Policy Development

Type of Review: New.

Title of Collection: Evaluation of the Effectiveness of Online Learning Courses for Secondary Students.

OMB Control Number: 1875-NEW.

Agency Form Number(s): N/A.

Frequency of Responses: Once.

Affected Public: Individuals or households.

Total Estimated Number of Annual Responses: 1,761.

Total Estimated Number of Annual Burden Hours: 220.

Abstract: Given the considerable scale at which online learning is being used in schools today, it is particularly important that policymakers have research-based guidance available about how best to deploy online learning activities. However, few rigorous studies have been completed that compare K-12 student achievement in online learning to traditional, classroom-based education. Similarly, while many articles provide advice regarding the “best” ways to implement online learning, few report an empirical basis for recommended practices. To fill this critical gap in knowledge, this study will provide rigorous empirical data on the effectiveness of online learning for secondary students. This study will conduct surveys of teachers and students engaged in online learning courses in two states: Florida and North Carolina. Both states have large-scale, statewide virtual school providers. In Florida, the impact of a game-based, online U.S. History course offered by the Florida Virtual School (FLVS) on student learning will be compared to a traditional FLVS U.S. History online course using an experimental design, randomly assigning students to conditions. Learning outcomes will be assessed at the end of two topical units—Civil Rights and the Industrial Revolution. In North Carolina, the impact of online learning for secondary students enrolled in five different courses offered by the North Carolina Virtual Public School will be compared with peers enrolled in similar courses in face-to-face instruction. The North Carolina study will use a quasi-experimental design using propensity score matching. State end-of-course exams for each course and the scores on the Advanced Placement U.S. History exam will be used as the primary outcome measures. In addition to the surveys of online teachers and students, a sample of North Carolina teachers teaching similar courses in face-to-face instruction will be administered a survey to collect information on instructional practices in the comparison face-to-face courses.

Copies of the proposed information collection request may be accessed from http://edicsweb.ed.gov, by selecting the “Browse Pending Collections” link and by clicking on link number 4629. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2011-13210 Filed 5-26-11; 8:45 am]

BILLING CODE 4000-01-P